DEPARTMENT OF ENERGY

Federal Energy Regulatory Commission

[Docket No. RP03-376-002]

TransColorado Gas Transmission Company; Notice of Compliance Filing

August 6, 2003.

Take notice that on August 1, 2003, TransColorado Gas Transmission Company (TransColorado) tendered for filing to become part of its FERC Gas Tariff, First Revised Volume No. 1, the following tariff sheets, to be effective July 1, 2003:

2nd Sub Original Sheet No. 213A

2nd Sub Original Sheet No.227G.02

TransColorado states that the purpose of this filing is to comply with the Commission's Letter Order issued on July 23, 2003, in Docket No. RP03-376-001.

TransColorado states that copies of the filing are being served on all parties set out on the Commission's official service list in Docket No. RP03-376-000.

Any person desiring to be heard or to protest said filing should file a motion to intervene or a protest with the Federal Energy Regulatory Commission, 888 First Street, NE., Washington, DC 20426, in accordance with Sections 385.214 or 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: August 13, 2003.

Linda Mitry,
Acting Secretary.

[FR Doc. 03-20603 Filed 8-12-03; 8:45 am]

BILLING CODE 6717-01-P